DEPARTMENT OF THE INTERIOR

Bureau of Reclamation

Freeport Regional Water Project, Sacramento, California

AGENCY: Bureau of Reclamation, Interior.

ACTION: Notice of availability of the Final Environmental Impact Statement (EIS) and Environmental Impact Report (EIR)

SUMMARY: Pursuant to the National Environmental Policy Act (NEPA) and the California Environmental Quality Act (CEQA), the Bureau of Reclamation (Reclamation) and the Freeport Regional Water Authority (FRWA) have prepared a Final Environmental Impact Statement (EIS) and a Final Environmental Impact Report (EIR) for the Freeport Regional Water Project. The proposed project would construct and operate a water supply project to meet regional water supply needs.

A Notice of Availability of the joint Draft EIS/EIR was published in the Federal Register on Friday, August 8, 2003 (68 FR 47363). The written comment period on the Draft EIS/EIR ended Friday, December 15, 2003. The Final EIS and Final EIR contain responses to all comments received and reflect comments and any additional information received during the review period.

DATES: Reclamation will not make a decision on the proposed action until at least 30 days after release of the Final EIS. After the 30-day waiting period, Reclamation will complete a Record of Decision (ROD). The ROD will state the action that will be implemented and will discuss all factors leading to the decision.

ADDRESSES: A compact disk or a copy of the Final EIS and Final EIR may be requested from Mr. Kurt Kroner, Freeport Regional Water Authority, 1510 J Street, Suite 140, Sacramento, CA 95814, at 916-326-5489, or by e-mail at k.kroner@frwa.com. The final documents are available online at http://www.freeportproject.org.

See the SUPPLEMENTARY INFORMATION section for locations where copies of the Final EIS and Final EIR are available.

FOR FURTHER INFORMATION CONTACT: Mr. Rob Schroeder, Bureau of Reclamation, at 916-989-7274; or Mr. Kurt Kroner, FRWA, at 916-326-5489, or e-mail at k.kroner@frwa.com.

SUPPLEMENTARY INFORMATION: The project would (1) support acquisition of additional Sacramento County Water Agency (SCWA) surface water entitlements to promote efficient conjunctive use of groundwater in its Zone 40 area, consistent with the Sacramento Area Water Forum Agreement and County of Sacramento General Plan policies; (2) provide facilities through which SCWA can deliver existing and anticipated surface water entitlements to Zone 40 area; (3) provide facilities through which East Bay Municipal Utility District (EBMUD) can take delivery of a supplemental supply of water that would substantially meet its need for water and reduce existing and future customer deficiencies during droughts; and (4) improve EBMUD system reliability and operational flexibility during droughts, catastrophic events, and scheduled major maintenance at Pardee Dam/Reservoir.

The Draft EIS/EIR addressed facilities-related impacts including the effects of project construction and operation on hydrology, water quality, fish resources, recreation, vegetation and wildlife, visual resources, cultural resources, land use, geology, soils, seismicity, groundwater, traffic and circulation, air quality, noise, and public health and safety. Diversion-related impacts include the effects of increased diversions from the Sacramento River and associated changes in Reclamation's operation of Central Valley Project facilities. Project diversions therefore may directly or indirectly affect the Sacramento River, its tributaries, and Delta resources including water supply, fish and aquatic habitat, riparian vegetation and habitat, water quality, recreation, visual and cultural resources, and power supply. The Draft EIS/EIR also evaluated potential growth-inducing impacts for the SCWA and EBMUD water service areas. An evaluation of cumulative hydrologic and water service area impacts associated with reasonably foreseeable actions was also included.

Public hearings were held on the following dates and locations: Thursday, September 4, 2003, in Sacramento, CA; Tuesday, September 9, 2003, in Herald, CA; Wednesday, September 10, 2003, in Oakland, CA; Thursday, September 11, 2003, in Sacramento, CA; and Monday, September 29, 2003, in Sacramento, CA.

Copies of the final documents are available for public inspection and review at the following locations:

• East Bay Municipal Utility District, 375 11th Street, Oakland, CA 94607.

• Sacramento County Water Agency, 827 Seventh Street, Room 301, Sacramento, CA 95814.

• Sacramento County Clerk-Recorder's Office, 600 Eighth Street, Sacramento, CA 95814.

• Sacramento Public Library, 828 I Street, Sacramento, CA 95814.

• Bureau of Reclamation, 7794 Folsom Dam Road, Folsom, CA 95630.

Bureau of Reclamation, Denver Office Library, Building 67, Room 167, Denver Federal Center, 6th and Kipling, Denver, CO 80225; telephone: 303-445-2072.

• Bureau of Reclamation, Office of Public Affairs, 2800 Cottage Way, Sacramento, CA 95825-1898; telephone: 916-978-5100.

• Natural Resources Library, U.S. Department of the Interior, 1849 C Street N.W., Main Interior Building, Washington, D.C. 20240-0001.

• Elk Grove Community Library, 8962 Elk Grove Boulevard, Elk Grove, CA 95624.

• Belle Cooledge Community Library, 5600 Southland Park Drive, Sacramento, CA 95822.

• Valley Hi—North Laguna, 6351 Mack Road, Sacramento, CA 95823.

• Southgate Community Library, 6132 66th Avenue, Sacramento, CA 95823.

• Galt Neighborhood Library, 1000 Caroline Avenue, Sacramento, CA 95632.

• Pannell Community Center, 2450 Meadowview Road, Sacramento, CA 95832.

• Clarksburg Branch Library, 52915 Netherlands Road, P.O. Box 229, Clarksburg, CA 95612.

• Lodi Public Library, 201 W. Locust Street, Lodi, CA 95240.

It is Reclamation's practice to publicly disclose respondents' comments, including names and addresses. Respondents may request that their address be withheld from disclosure; this will be honored to the extent allowable by law. There may also be circumstances in which a respondent's identity may be withheld from disclosure; again, this will be honored to the extent allowable by law. If you wish us to withhold your name and/or address, you must state this prominently at the beginning of your comment. All submissions from organizations or businesses will be publicly disclosed in their entirety.

Dated: February 19, 2004.
John F. Davis,
Deputy Regional Director, Mid-Pacific Region.

[FR Doc. 04-7948 Filed 4-7-04; 8:45 am]

BILLING CODE 4310-MN-P